INTERNATIONAL TRADE COMMISSION

[Investigation Nos. 701-TA-502 and 731-TA-1227 (Second Review)]

Steel Concrete Reinforcing Bar From Mexico and Turkey; Revised Schedule for the Subject Proceeding

AGENCY: United States International Trade Commission.

ACTION: Notice.

DATES: November 26, 2025.

FOR FURTHER INFORMATION CONTACT: Kenneth Gatten III (202-708-1447), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective September 2, 2025, the Commission established a schedule for the conduct of the subject proceeding (90 FR 42440, September 2, 2025). Due to the lapse in appropriations and ensuing cessation of Commission operations, the Commission is revising its schedule as follows: responses to the notice of institution are due November 18, 2025; comments concerning the adequacy of responses to the notice of institution and whether the Commission should conduct an expedited or full review are due December 30, 2025.

For further information concerning this proceeding, see the Commission's notice cited above and the Commission's Rules of Practice and Procedure, part 201, subparts A and B (19 CFR part 201), and part 207, subparts A, D, E, and F (19 CFR part 207).

Authority: This proceeding is being conducted under authority of title VII of the Tariff Act of 1930; this notice is published pursuant to section 207.62 of the Commission's rules.

By order of the Commission.
Issued: December 3, 2025.
Lisa Barton,
Secretary to the Commission.

[FR Doc. 2025-22136 Filed 12-5-25; 8:45 am]

BILLING CODE 7020-02-P